DEPARTMENT OF TRANSPORTATION

National Highway Traffic Safety Administration

[Docket No. NHTSA-2002-13989; Notice 2]

Rejection of Petition for Determination of Inconsequential Noncompliance

On September 12, 2002, Glaval Bus Inc. (Glaval) notified the National Highway Traffic Safety Administration (NHTSA) that it had determined that a total of 900 “Glaval Model Universal, Primetime, & Titan buses” manufactured between January 1999 and August 16, 2002, did not meet the labeling requirements mandated by Federal Motor Vehicle Safety Standard (FMVSS) No. 208, “Occupant Crash Protection,” and filed an appropriate report pursuant to 49 CFR part 573, “Defect and Noncompliance Reports.” Glaval also applied to be exempted from the notification and remedy requirements of 49 U.S.C. 30118(d) and 30120(h), on the basis that the noncompliance is inconsequential to motor vehicle safety.

Notice of receipt of the application was published, with a 30-day comment period, on December 18, 2002, in the Federal Register (67 FR 77558). NHTSA received no comments on this application during the 30-day comment period.

Since the publication of the notice of receipt of application, NHTSA has learned that all of the buses that are the subject of the September 12, 2002 petition have a gross vehicle weight rating of more than 10,000 pounds. In a March 23, 1999 letter to Mr. Lawrence F. Henneberger of Arent, Fox, Kintner, Plotkin and Kahn, NHTSA interpreted the labeling requirements of FMVSS No. 208 “as applying only to passenger cars and to trucks, buses and multipurpose passenger vehicles with a GVWR of 8,500 pounds or less and an unloaded vehicle weight of 5,500 pounds or less.” Therefore, the labels installed in the Glaval buses are voluntary and do not have to comply with the prohibition in S4.5.1(b)(5) (previously S4.5.1(b)(3)) against any other information from being on the same side of the sun visor as the air bag warning label, except an air bag maintenance label or a utility vehicle rollover warning label. Since there is no noncompliance, the petition for a determination that the noncompliance is inconsequential is moot and is therefore rejected. Accordingly, Glaval is not required to notify owners and recall its buses.

(49 U.S.C. 30118, 30120, delegations of authority at 49 CFR 1.50 and 501.8).
Issued on: September 16, 2003.
Stephen R. Kratzke,
Associate Administrator for Rulemaking.

[FR Doc. 03-24428 Filed 9-25-03; 8:45 am]

BILLING CODE 4910-59-P